ENVIRONMENTAL PROTECTION AGENCY

40 CFR Part 52

[R03-OAR-2005-PA-0014; FRL-7927-5]

Approval and Promulgation of Air Quality Implementation Plans; Commonwealth of Pennsylvania; Control of VOC Emissions From Aerospace, Mobile Equipment, and Wood Furniture Surface Coating Applications for Allegheny County

AGENCY: Environmental Protection Agency (EPA).

ACTION: Direct final rule.

SUMMARY: EPA is taking direct final action to approve a revision to the Allegheny County portion of the Commonwealth of Pennsylvania State Implementation Plan (SIP). This revision, submitted by the Pennsylvania Department of Environmental Protection (PADEP) on behalf of the Allegheny County Health Department (ACHD), establishes standards and requirements to control volatile organic compounds (VOCs) emissions from aerospace, mobile equipment, and wood furniture surface coating applications, and modifies existing regulations for general and specific coating processes. This revision updates the ACHD's regulations to make them consistent with the Commonwealth's SIP-approved regulations regarding the affected surface coating processes. EPA is approving this revision to the Allegheny portion of the Commonwealth of Pennsylvania SIP in accordance with the requirements of the Clean Air Act.

DATES: This rule is effective on August 23, 2005, without further notice, unless EPA receives adverse written comment by July 25, 2005. If EPA receives such comments, it will publish a timely withdrawal of the direct final rule in the Federal Register and inform the public that the rule will not take effect.

ADDRESSES: Submit your comments, identified by Regional Material in EDocket (RME) ID Number R03-OAR-2005-PA-0014, by one of the following methods:

A. Federal eRulemaking Portal: http://www.regulations.gov. Follow the on-line instructions for submitting comments.

B. Agency Web site: http://www.docket.epa.gov/rmepub/index.jsp RME, EPA's electronic public docket and comment system, is EPA's preferred method for receiving comments. Follow the on-line instructions for submitting comments.

C. E-mail: campbell.dave@epa.gov.

D. Mail: R03-OAR-2005-PA-0014, David Campbell Chief, Air Quality Planning Branch, Mailcode 3AP21, U.S. Environmental Protection Agency, Region III, 1650 Arch Street, Philadelphia, Pennsylvania 19103.

E. Hand Delivery: At the previously-listed EPA Region III address. Such deliveries are only accepted during the Docket's normal hours of operation, and special arrangements should be made for deliveries of boxed information.

Instructions: Direct your comments to RME ID No. R03-OAR-2005-PA-0014. EPA's policy is that all comments received will be included in the public docket without change, and may be made available online at http://www.docket.epa.gov/rmepub/, including any personal information provided, unless the comment includes information claimed to be Confidential Business Information (CBI) or other information whose disclosure is restricted by statute. Do not submit information that you consider to be CBI or otherwise protected through RME, regulations.gov or e-mail. The EPA RME and the Federal regulations.gov Web sites are an “anonymous access” system, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the RME index at http://www.docket.epa.gov/rmepub/. Although listed in the index, some information is not publicly available, i.e., CBI or other information whose disclosure is restricted by statute. Certain other material, such as copyrighted material, is not placed on the Internet and will be publicly available only in hard copy form. Publicly available docket materials are available either electronically in RME or in hard copy during normal business hours at the Air Protection Division, U.S. Environmental Protection Agency, Region III, 1650 Arch Street, Philadelphia, Pennsylvania 19103. Copies of the State submittal are available at the Allegheny County Health Department, Bureau of Environmental Quality, Division of Air Quality, 301 39th Street, Pittsburgh, Pennsylvania 15201.

FOR FURTHER INFORMATION CONTACT: Ellen Wentworth, (215) 814-2034, or by e-mail at wentworth.ellen@epa.gov

SUPPLEMENTARY INFORMATION:

I. Background

On March 18, 2004, the Commonwealth of Pennsylvania, on behalf of Allegheny County, submitted a formal revision to its State Implementation Plan (SIP). The revision modifies existing regulations under ACHD's Rules and Regulations, Article XXI, sections 2101.20, 2105.01, and 2105.10 pertaining to surface coating processes in general, and creates new sections, 2105.74, 2105.75, and 2105.76 specific to the aerospace, automotive, and wood furniture industries, respectively. These new regulations are applicable to all automotive touch-up and repair facilities, certain aircraft maintenance facilities, and wood furniture manufacturing facilities that meet or exceed specified emission thresholds.

II. Summary of SIP Revision

The March 18, 2004 revision to the Pennsylvania SIP, submitted by PADEP on behalf of Allegheny County, is based on recent PADEP amendments, EPA Control Technique Guidelines (CTGs), and National Emission Standards for Hazardous Air Pollutants (NESHAPS). This revision updates Allegheny County's Article XXI Air Pollution Control Regulations to make them consistent with previously SIP-approved PADEP regulations. Listed below is a summary of the SIP revision. For more detailed information on this revision, please see the technical support document (TSD) prepared for this rulemaking.

A. Part A—General, section 2101.20, Definitions

This revision adds and revises definitions in Article XXI, section 2101.20, Definitions, for terms that are used in the substantive sections of 2105.74, Aerospace Manufacturing and Rework, 2105.75, Mobile Equipment Repair and Refinishing, and 2105.76, Wood Furniture Manufacturing Operations.

B. Part E—Source Emission and Operating Standards, section 2105.01, Equivalent Compliance Techniques

This revision revises the VOC equivalency provisions of section 2105.01, Equivalent Compliance Techniques of the ACHD's Article XXI Air Pollution Control Regulations. The revision authorizes compliance with section 2105.01 by the use of an alternative method if that method is incorporated by the Department into an applicable federally enforceable installation permit or operating permit subject to review by EPA. The revision removes the requirement that alternative compliance methods for certain VOC requirements be submitted to EPA as a SIP revision. This action will streamline the process for establishing alternative compliance methods. EPA is approving this revision because any alternative compliance method would be reviewed by EPA as a part of the permitting process to ensure that it produced results equivalent to the method specified in the regulations, thereby not jeopardizing attainment of the ozone standard.

C. Part E—Source Emission and Operating Standards-Subpart 1, VOC Sources, section 2105.10, Surface Coating Processes

This revision to the ACHD's Article XXI, section 2105.10, Surface Coating Processes, revises equations for calculating VOC content, recalculates emission limits on a “per solids” basis, and modifies recordkeeping requirements. This regulation applies to a surface coating process category, regardless of the size, which emits or has emitted VOCs into the outdoor atmosphere in quantities greater than 3 pounds (1.4 kilograms) per hour, 15 pounds (7 kilograms) per day, or 2.7 tons (2,455 kilograms) per year during any calendar year since January 1, 1987. A person may not cause or permit the emission into the outdoor atmosphere of VOCs from a surface coating process category in the regulation, unless the VOC content of each as applied coating is equal to or less than the standard specified in the regulation, or the overall weight of VOCs emitted to the atmosphere is reduced through the use of vapor recovery or incineration or another method which is acceptable under section 2105.01, Equivalent Compliance Techniques.

D. Part E—Source Emission and Operating Standards, Subpart 7—Miscellaneous Sources, section 2105.74, Aerospace Manufacturing and Rework

This revision adds a new section, 2105.74 to ACHD's Article XXI, adopting requirements to control VOC emissions from coatings and solvents used in the aerospace industry. This regulation updates ACHD's Article XXI Air Pollution Control regulations to reflect existing PADEP aerospace regulations, establishing emission limits and reasonably available control technology (RACT) for aerospace sources that have the potential to emit (PTE) 25 tons a year or more of VOCs. The aerospace industry includes all manufacturing facilities that produce an aerospace vehicle or component and all facilities that repair these aerospace products. An aerospace vehicle or component is defined as, but not limited to, any fabricated part, processed part, assembly of parts, or completed unit of any aircraft including, but not limited to airplanes, helicopters, missiles, rockets, and space vehicles. In addition to manufacturing and repair facilities, some shops may specialize in providing a service, such as chemical milling, rather than actually producing a component or assembly. Aerospace coatings that meet the definitions of the specific coatings of the regulation shall meet those allowable VOC limits.

E. Part E—Source Emission and Operating Standards, Subpart 7—Miscellaneous Sources, section 2105.75, Mobile Equipment Repair and Refinishing

This revision adds a new section, 2105.75, to ACHD's Article XXI Air Pollution Control Regulations, establishing allowable VOC-content requirements for coatings used in mobile equipment repair and refinishing. This regulation updates ACHD's Article XXI Air Pollution Control regulations to reflect existing PADEP mobile equipment repair and refinishing regulations. This regulation establishes emission limits, equations for calculating content, application techniques, and housekeeping requirements for non-assembly plant mobile equipment repair and refinishing sources. This regulation applies to a person who applies mobile equipment repair and refinishing or color-matched coatings to mobile equipment or mobile equipment components. This regulation does not apply to a person who applies surface coatings to mobile equipment or mobile equipment components if the surface coating process is subject to the miscellaneous metal parts finishing requirements of the ACHD's Article XXI, section 2105.10, Surface Coating Processes, if the surface coating process is at an automobile assembly plant, or if the person applying the coatings does not receive compensation for the application of the coatings. A person subject to this regulation may not apply to mobile equipment or mobile equipment components any automotive pretreatment, automotive primer-surfacer, automotive primer-sealer, automotive topcoat, and automotive specialty coatings, including any VOC-containing materials added to the original coating supplied by the manufacturer, that contain VOCs in excess of the limits specified in the regulation.

F. Part E—Source Emission and Operating Standards, Subpart 7—Miscellaneous Sources, section 2105.76, Wood Furniture Manufacturing Operations

This revision adds a new section, 2105.74 to ACHD's Article XXI, adopting new VOC regulations for wood furniture operations including wood furniture finishing, cleaning, and wash-off operations. This regulation establishes emission limits and control technology for sources that have a PTE of 25 tons a year or more of VOCs from wood furniture manufacturing operations. In addition to setting VOC emission limits, the new regulation establishes work practice standards, compliance procedures, monitoring requirements, recordkeeping and reporting requirements, and special provisions for facilities using an emissions averaging approach. The limits in this regulation do not apply to a coating used exclusively for determining product quality and commercial acceptance, touch-up and repair, and other small quantity coatings if the quantity of coating does not exceed 50 gallons per year for a single coating, and a total of 200 gallons per year for all coatings combined for the facility. The owner or operator of the facility must submit a written request to the Department which must be approved prior to the use of the coatings.

An owner or an operator of a facility subject to this regulation shall limit VOC emissions from wood furniture manufacturing operations by: (1) Applying either waterborne topcoats or a combination of sealers and topcoats and strippable spray booth coatings with a VOC content equal to or less than the standards specified in the regulation; (2) using an emissions averaging program which meets the requirements of the emissions averaging provisions of the regulation; (3) using a control system that achieves a reduction in emissions equivalent to 0.8 lb VOC/lb solids for topcoats, or 1.8 lbs VOC/lb solids for topcoats and 1.9 lbs VOC/lb solids for sealers; and (4) using a combination of the above methods.

III. Final Action

EPA is approving a revision to the Allegheny County portion of the Pennsylvania SIP consisting of amendments to section 2101.20, Definitions, section 2105.01, Equivalent Compliance Techniques, and section 2105.10, Surface Coating Processes. In addition, EPA is also approving the addition to ACHD's Article XXI of new sections 2105.74, Aerospace Manufacturing and Rework, section 2105.75, Mobile Equipment Repair and Refinishing, and section 2105.76, Wood Furniture Manufacturing Operations. These revisions were submitted by the Commonwealth of Pennsylvania on behalf of Allegheny County on March 18, 2004, and update ACHD's Article XXI regulations to make them consistent with existing PADEP regulations.

EPA is publishing this rule without prior proposal because the Agency views this as a noncontroversial amendment and anticipates no adverse comment. However, in the “Proposed Rules” section of today's Federal Register, EPA is publishing a separate document that will serve as the proposal to approve the SIP revision if adverse comments are filed. This rule will be effective on August 23, 2005, without further notice unless EPA receives adverse comment by July 25, 2005. If EPA receives adverse comment, EPA will publish a timely withdrawal in the Federal Register informing the public that the rule will not take effect. EPA will address all public comments in a subsequent final rule based on the proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

IV. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal requirement, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by August 23, 2005. Filing a petition for reconsideration by the Administrator of this final rule, revising Allegheny County's Article XXI, VOC Control, General and Specific Surface Coating Applications, does not affect the finality of this rule for the purposes of judicial review nor does it extend the time within which a petition for judicial review may be filed, and shall not postpone the effectiveness of such rule or action. This action, may not be challenged later in proceedings to enforce its requirements. (See section 307(b)(2).)

List of Subjects in 40 CFR Part 52

Environmental protection, Air pollution control, Ozone, Reporting and recordkeeping requirements, Volatile organic compounds.

Dated: June 15, 2005.
Donald S. Welsh,
Regional Administrator, Region III.

40 CFR part 52 is amended as follows:

PART 52—[AMENDED]

1. The authority citation for part 52 continues to read as follows:

Authority: 42 U.S.C. 7401 et seq.

Subpart NN—Pennsylvania

2. In § 52.2020, the table in paragraph(c)(2) is amended by revising the title of the third column to read “State effective date”; adding an entry for Part A, 2101.20 after the existing entry for 2101.20; adding entries for Part E, 2105.74, 2105.75, and 2105.76; and revising entries for Part E, 2105.01 and 2105.10 to read as follows:

§ 52.2020 Identification of plan.

* * * * *

(c) * * *

(2) * * *

Article XXI citation | Title/subject | State effective date | EPA approval date | Additional explanation/§ 52.2063 citation
PART A General
* * * * * * *
2101.20 | Definitions | 7/10/03 | 6/24/05 [Insert page number where the document begins]
* * * * * * *
PART E Source Emission and Operating Standards
2105.01 | Equivalent Compliance Techniques | 7/10/03 | 6/24/05 [Insert page number where the document begins]
* * * * * * *
Subpart 1 VOC Sources
2105.10 | Surface Coating Processes | 7/10/03 | 6/24/05 [Insert page number where the document begins]
* * * * * * *
Subpart 7 Miscellaneous VOC Sources
* * * * * * *
2105.74 | Aerospace Manufacturing and Rework | 7/10/03 | 6/24/05 [Insert page number where the document begins]
2105.75 | Mobile Equipment Repair and Refinishing | 7/10/03 | 6/24/05 [Insert page number where the document begins]
2105.76 | Wood Furniture Manufacturing Operations | 7/10/03 | 6/24/05 [Insert page number where the document begins]
* * * * * * *

* * * * *

[FR Doc. 05-12581 Filed 6-23-05; 8:45 am]

BILLING CODE 6560-50-P